DEPARTMENT OF THE INTERIOR

National Park Service

[DOI-2023-0017; 24X PPWOHAFCD0 PMO00HF05D00000]

Privacy Act of 1974; System of Records

AGENCY: National Park Service, Interior.

ACTION: Rescindment of a system of records notice.

SUMMARY: The Department of the Interior (DOI) is issuing a public notice of its intent to rescind the National Park Service (NPS) Privacy Act system of records, INTERIOR/NPS-6, Audiovisual Performance Selection Files, from its existing inventory.

DATES: These changes take effect on January 12, 2024.

ADDRESSES: You may send comments identified by docket number [DOI-2023-0017] by any of the following methods:

• Federal eRulemaking Portal: http://www.regulations.gov. Follow the instructions for sending comments.

• Email: DOI_Privacy@ios.doi.gov. Include docket number [DOI-2023-0017] in the subject line of the message.

• U.S. Mail or Hand-Delivery: Teri Barnett, Departmental Privacy Officer, U.S. Department of the Interior, 1849 C Street NW, Room 7112, Washington, DC 20240.

Instructions: All submissions received must include the agency name and docket number [DOI-2023-0017]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: (1) Chad Beale, HFC Technical Services Manager, National Park Service, Harpers Ferry Center, 67 Mather Place, Room 50, Harpers Ferry, West VA 25425, hfc_information@nps.gov or 304-535-6451; or (2) Felix Uribe, Associate Privacy Officer, National Park Service, 12201 Sunrise Valley Drive, Reston, VA 20192, nps_privacy@nps.gov or 202-354-6925.

SUPPLEMENTARY INFORMATION: Pursuant to the provisions of the Privacy Act of 1974, as amended, 5 U.S.C. 552a, the NPS is rescinding the INTERIOR/NPS-6, Audiovisual Performance Selection Files, system of records notice (SORN) and removing it from its system of records inventory. This system was used to evaluate voice and photograph quality and to select performers and narrators for NPS productions. During a review of NPS SORNs, it was determined that this notice is no longer necessary as the records in the system are covered under the Department-wide SORN, INTERIOR/DOI-87, Acquisition of Goods and Services: FBMS, 73 FR 43766 (July 28, 2008); modification published at 86 FR 50156 (September 7, 2021). Therefore, DOI is rescinding the INTERIOR/NPS-6, Audiovisual Performances Selection Files, SORN to eliminate an unnecessary duplicate notice and ensure compliance with the Privacy Act of 1974 and Office of Management and Budget (OMB) Circular A-108, Federal Agency Responsibilities for Review, Reporting, and Publication under the Privacy Act. Rescinding the INTERIOR/NPS-6, Audiovisual Performance Selection Files, SORN will have no adverse impact on individuals as the records are covered under the INTERIOR/DOI-87, Acquisition of Goods and Services: FBMS, SORN. This rescindment will also promote the overall streamlining and management of DOI Privacy Act systems of records.

SYSTEM NAME AND NUMBER:

INTERIOR/NPS-6, Audiovisual Performance Selection Files.

HISTORY:

42 FR 19073 (April 11, 1977); modification published at 73 FR 63992 (October 28, 2008) and 86 FR 50156 (September 7, 2021).

Teri Barnett,
Departmental Privacy Officer, Department of the Interior.

[FR Doc. 2024-00554 Filed 1-11-24; 8:45 am]

BILLING CODE 4310-10-P